DEPARTMENT OF HEALTH AND HUMAN SERVICES

Health Resources and Services Administration

Advisory Commission on Childhood Vaccines; Notice of Meeting

In accordance with section 10(a)(2) of the Federal Advisory Committee Act (Pub. L. 92-463), notice is hereby given of the following meeting:

Name: Advisory Commission on Childhood Vaccines (ACCV).

Dates and Times: March 9, 2005, 12 noon-4:30 p.m., EST and March 10, 2005, 9 a.m.-5 p.m., EST.

Place: Audio Conference Call and Parklawn Building, Conference Rooms G & H, 5600 Fishers Lane, Rockville, MD 20857.

Status: The meeting is open to the public. The public can join the meeting in person at the address listed above or by audio conference call by dialing 1-888-913-9965 on March 9-10 and providing the following information:

Leader's Name: Joyce Somsak.

Password: ACCV.

Agenda: The agenda items will include, but are not limited to: a summary of the Causation in Fact session at the U.S. Court of Federal Claims' 17th Judicial Conference; a report and discussion from the ACCV Workgroup on changes to the Vaccine Injury Table; and updates from the Division of Vaccine Injury Compensation (DVIC), the Department of Justice, and the National Vaccine Program Office. Agenda items are subject to change as priorities dictate.

Public Comments: Persons interested in providing an oral presentation should submit a written request, along with a copy of their presentation to: Ms. Cheryl Lee, Principal Staff Liaison, DVIC, Healthcare Systems Bureau (HSB), Health Resources and Services Administration (HRSA), Room 11C-26, 5600 Fishers Lane, Rockville, MD 20857 or e-mail clee@hrsa.gov. Requests should contain the name, address, telephone number, and any business or professional affiliation of the person desiring to make an oral presentation. Groups having similar interests are requested to combine their comments and present them through a single representative. The allocation of time may be adjusted to accommodate the level of expressed interest. DVIC will notify each presenter by mail or telephone of their assigned presentation time.

Persons who do not file an advance request for a presentation, but desire to make an oral statement, may announce it at the time of the comment period. These persons will be allocated time as it permits.

For further information contact: Anyone requiring information regarding the ACCV, should contact Ms. Cheryl Lee, Principal Staff Liaison, DVIC, HSB, HRSA, Room 11C-26, 5600 Fishers Lane, Rockville, MD 20857; telephone (301) 443-2124 or e-mail clee@hrsa.gov.

Dated: February 9, 2005.
Tina M. Cheatham,
Director, Division of Policy Review and Coordination.

[FR Doc. 05-2881 Filed 2-14-05; 8:45 am]

BILLING CODE 4165-15-P